ENVIRONMENTAL PROTECTION AGENCY

40 CFR Part 63

[EPA-HQ-OAR-2013-0358; FRL-9809-8]

Notice of Final Action on Petition From Earthjustice To List Coal Mines as a Source Category and To Regulate Air Emissions From Coal Mines

AGENCY: Environmental Protection Agency (EPA).

ACTION: Denial of petition for rulemaking.

SUMMARY: This action provides notice that on April 30, 2013, the Acting EPA Administrator, Bob Perciasepe, signed a letter denying a petition to add coal mines to the Clean Air Act (CAA) section 111 list of stationary source categories. The agency denied the petition because the EPA must prioritize its actions in light of limited resources and ongoing budget uncertainties, and at this time, cannot commit to conducting the process to determine whether coal mines should be added to the list of categories under CAA 111(b)(1)(A). The letter explains in detail the EPA's reasons for the denial.

FOR FURTHER INFORMATION CONTACT: Ms. Allison Mayer, Sector Policies and Programs Division (E143-03), Office of Air Quality Planning and Standards, Environmental Protection Agency, Research Triangle Park, North Carolina 27711; telephone number: (919) 541-4016; fax number: (919) 541-3470; email address: mayer.allison@epa.gov.

SUPPLEMENTARY INFORMATION:

I. How can I get copies of this document and other related information?

This Federal Register notice, the petition for rulemaking and the letter denying the petition for rulemaking are available in the docket that the EPA established under Docket ID Number EPA-HQ-OAR-2013-0358. All documents in the docket are listed on the www.regulations.gov Web site. Publicly available docket materials are available either electronically through www.regulations.gov, or in hard copy at the EPA Docket Center (Air Docket), EPA/DC, EPA West, Room 3334, 1301 Constitution Ave., NW., Washington, DC. The Public Reading Room is open from 8:30 a.m. to 4:30 p.m., Monday through Friday, excluding legal holidays. The telephone number for the Public Reading Room is (202) 566-1744 and the telephone number for the Air Docket is (202) 566-1742.

II. Judicial Review

Any petitions for review of the letter denying the petition to list coal mines as a source category described in this Notice must be filed in the Court of Appeals for the District of Columbia Circuit by July 8, 2013.

List of Subjects in 40 CFR Part 63

Environmental protection, Administrative practice and procedure, Air pollution control, Intergovernmental relations.

Dated: April 30, 2013.
Bob Perciasepe,
Acting EPA Administrator.

[FR Doc. 2013-10827 Filed 5-7-13; 8:45 am]

BILLING CODE 6560-50-P